DEPARTMENT OF AGRICULTURE

Agricultural Marketing Service

7 CFR Part 1260

[No. AMS-LPS-15-0084]

Amendment to the Beef Promotion and Research Rules and Regulations; Withdrawal

AGENCY: Agricultural Marketing Service, USDA.

ACTION: Withdrawal of proposed rule.

SUMMARY: This document informs the public that the Agricultural Marketing Service (AMS) of the U.S. Department of Agriculture (USDA) is withdrawing the proposed rule published in the Federal Register (81 FR 14022) on March 16, 2016, regarding the Beef Promotion and Research Order (Order) established under the Beef Promotion and Research Act of 1985 (Act). The proposed rule is being withdrawn because of an error noted in the formula determining the assessment rate on imported veal carcass weight and to provide the calculation to establish the assessment rate on importer veal and veal products.

DATES: The proposed rule published on March 26, 2016 (81 FR 14022), is withdrawn.

FOR FURTHER INFORMATION CONTACT: Michael Dinkel, Agricultural Marketing Specialist; Research and Promotion Division, Room 2610-S; Livestock, Poultry, and Seed Program; AMS, USDA, STOP 0249; 1400 Independence Avenue SW., Washington, DC 20250-0249; facsimile 202/720-1125; telephone 301/352-7497, or by email at Michael.Dinkel@ams.usda.gov.

SUPPLEMENTARY INFORMATION:

Background

The Act authorized the establishment of a national beef promotion and research program. The final Order was published in the Federal Register (51 FR 21632) on July 18, 1986, and the collection of assessments began on October 1, 1986. The program is administered by the Cattlemen's Beef Promotion and Research Board, appointed by the Secretary of Agriculture from industry nominations, and composed of 100 cattle producers and importers. The program is funded by a $1-per-head assessment on producer marketing of cattle in the U.S. and on imported cattle, as well as an equivalent amount on imported beef and beef products. The U.S. Customs and Border Protection Service collects assessments from importers.

On March 16, 2016, AMS published in the Federal Register (81 FR 14022) a proposed rule amending the Order established under the Act to add Harmonized Tariff Schedule (HTS) codes for veal and veal products not currently covered under the Order and to update the carcass weight for imported veal carcasses used to determine the assessment rate for imported veal and veal products.

Following publication, AMS discovered an error in the carcass weight of imported veal carcasses used to determine the assessment rate for imported veal and veal products. The correct weight used to calculate the assessment rate was published as 151 pounds, but the correct weight is 154 pounds. In addition, the industry recently requested the formula for how the assessment rate for imported veal and veal products is calculated. As a result of both the discovered error and the industry request, AMS is withdrawing the proposed rule and will publish a new proposed rule with the corrected carcass weight and formula.

Dated: June 17, 2016.
Elanor Starmer,
Administrator, Agricultural Marketing Service.

[FR Doc. 2016-14823 Filed 6-29-16; 8:45 am]

BILLING CODE 3410-02-P